NATIONAL SCIENCE FOUNDATION

Notice of Intent to Seek Approval to Establish an Information Collection

AGENCY: National Science Foundation.

ACTION: Notice and request for comments.

SUMMARY: The National Science Foundation (NSF) is announcing plans to request approval of this collection. In accordance with the requirement of section 3506(c)(2)(A) of the Paperwork Reduction Act of 1995 (Pub. L. 104-13), we are providing opportunity for public comment on this action. After obtaining and considering public comment, NSF will prepare the submission requesting that OMB approve clearance of this collection for no longer than 3 years.

Comments: Written comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

DATES: Written comments on this notice must be received by March 11, 2016 to be assured of consideration. Comments received after that date will be considered to the extent practicable.

For additional information or comments: Contact Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title of Collection: Nonprofit Research Activities Survey.

OMB Approval Number: 3145-New.

Expiration Date: Not applicable.

Type of Request: Intent to conduct a pilot test for an information collection.

Abstract: The nonprofit sector is one of four major sectors that perform and/or fund research and development (R&D) in the U.S. Historically, the National Science Foundation (NSF) has combined this sector's data with the business, government, and higher education sector data to estimate total national R&D expenditures via the annual National Patterns of R&D Resources report. The other three sectors are surveyed annually; however, it has been more than 18 years since NSF last collected R&D data from nonprofit organizations.

The primary objective of the new survey is to fill data gaps in the National Patterns of R&D Resources in such a way that it is compatible with data collected on the business, government, and higher education sectors of the U.S. economy and appropriate for international comparisons. Since the last survey of research activity in the nonprofit sector occurred more than 18 years ago, and because of the more than 21% growth in IRS filings by nonprofits between 2001 and 2011, it is important that a new survey of nonprofit R&D be fielded to update current national estimates for the nonprofit sector.

The National Center for Science and Engineering Statistics (NCSES) plans to conduct a pilot of the new Nonprofit Research Activities Survey (NPRA). NPRA will collect R&D and other related data from U.S. nonprofit organizations. This survey will collect the following:

• Total amount spent on R&D activities within nonprofit organizations,

• Number of employees and R&D employees,

• Sources of funds for R&D expenditures,

• Expenditures by field of R&D,

• Total amount of R&D funding provided to others outside the nonprofit organization,

• Types of recipients receiving R&D funding, and

• Funding by field of R&D.

The process of developing the questionnaire involved several major steps. First, at NSF's request, in February 2014 the Committee on National Statistics convened a steering committee on Measuring R&D Expenditures in the U.S. Nonprofit Sector. Second, NCSES (through its contractor) conducted 23 interviews with representatives of nonprofit organizations. Third, an expert panel was convened in September 2014 for the purpose of helping NSF shape the content and coverage of data related to R&D in the nonprofit sector. Finally, in the summer of 2015 cognitive interviews were conducted with representatives of 28 nonprofit organizations that perform and fund research to test the prenotification letter, a handout that will be included with the letter, and the survey instrument. The pilot test will be a web survey with a paper version of the questionnaire available for download. The initial contact with the nonprofit organizations will be via mail, but the remainder of the contacts will occur via email.

Use of the information: The primary purpose of this pilot survey is to assess the feasibility of and to test the process of collecting the necessary information prior to the launch of a nationally representative survey planned for 2017. The pilot survey results will not be published. However, NCSES does plan to use the information provided to improve our national estimates of nonprofit research spending in our annual publication National Patterns of R&D Resources.

Expected respondents: The pilot sample will be 4,000 nonprofit organizations.

Estimate of burden: We expect a response rate of 80%. Based on the responses from the 28 cognitive interviews, we estimate the full survey to require 10 hours to complete. The response time for nonprofit organizations that do not conduct or fund research should be under 1 hour. We estimate that of the 4,000 organizations surveyed, no more than 700 will identify as performer or funders and submit a full survey response. Therefore our estimate of burden for the pilot survey is 10,300 hours (7,000 hours for the 700 performers and funders; 3,300 for the remainder of the sample).

Dated: January 5, 2016.
Suzanne H. Plimpton,
Reports Clearance Officer, National Science Foundation.

[FR Doc. 2016-00229 Filed 1-8-16; 8:45 am]

BILLING CODE 7555-01-P